ENVIRONMENTAL PROTECTION AGENCY

[ER-FRL-6617-5]

Environmental Impact Statements; Notice of Availability

Responsible Agency: Office of Federal Activities, General Information (202) 564-7167 or www.epa.gov/oeca/ofa Weekly receipt of Environmental Impact Statements Filed April 16, 2001 Through April 20, 2001 Pursuant to 40 CFR 1506.9.

EIS No. 010127, DRAFT EIS, AFS, ID, Caribou National Forest Land and Resource Management Plan, Implementation Revised Forest Plan, Bannock, Bear Lake. Bingham, Bonneville, Caribou, Franklin, Oneida and Power Counties, Cache and Rich Counties, UT, Lincoln County, WY, Comment Period Ends: August 31, 2001, Contact: Ric Rine (208) 557-5766.

EIS No. 010128, DRAFT EIS, FHW, MT, Montana State Primary Route 78 (P-78), Reconstruction, Widening and Realignment, from the junction with State Secondary Route 419 (S-419) which is just South of Abarokee, to the Southern end of the Yellowstone River Bridge which is just south of Columbus, MT, Comment Period Ends: June 11, 2001, Contact: Dale W. Paulson (406) 449-5302.

EIS No. 010129, DRAFT EIS, FHW, WI, County Highway J/Wis 164 (I-94 to County E) Corridor Study, Improvements, City of Pewaukee, Villages of Pewaukee and Sussex Towns of Lisbon, Richfield and Polk, Waukesha and Washington Counties, WI, Comment Period Ends: June 18, 2001, Contact: Richard Madrzak (608) 829-7510.

EIS No. 010130, FINAL EIS, COE, CA, Guadalupe River Flood Control and Adjacent Streams Investigation, Proposed Modifications to the Guadalupe River Project, Downtown San Jose, Santa Clara County, CA, Wait Period Ends: May 29, 2001, Contact: Nina Bicknese (916) 557-7948.

EIS No. 010131, DRAFT EIS, UAF, VA, Initial F-22 Operational Wing Beddown Replacing the Existing F-15C at Langley (AFB) or one of the Four Alternative Locations, VA, Comment Period Ends: June 11, 2001, Contact: Brenda Cook (757) 764-5007.

EIS No. 010132, FINAL EIS, IBR, CA, Coachella Canal Lining Water Project, Revised and Updated Information, Approval of the Transfers and Exchanges of Conserved Coachella Canal Water, Construction, Operation and Funding, Riverside and Imperial Counties, CA, Wait Period Ends: May 29, 2001, Contact: Don Mitchell (760) 398-2651.

EIS No. 010133, DRAFT EIS, AFS, OR, Deep Vegetation Management Project, Implementation, Ochoco National Forest, Paulina Ranger District, Crook and Wheeler Counties, OR, Comment Period Ends: June 11, 2001, Contact: Eugene Skrine (541) 447-6900.

EIS No. 010134, FINAL EIS, COE, CA, Bolsa Chica Project, Construction/Road Construction, Restoration and Flood Control Improvement, Section 10/404 Permits and Land Use Plan, City of Huntington Beach, Orange County, CA, Wait Period Ends: May 29, 2001, Contact: Jack Fancher (760) 431-9440.

EIS No. 010135, DRAFT SUPPLEMENT, FHW, VA, Outer Connector Study—Northwest Quadrant Transportation Improvement, from I-95, US 17 and VA-3, Funding, COE Section 10 and 404 Permits, Stafford and Spotsylvania Counties, WA, Comment Period Ends: July 02, 2001, Contact: Roberto Foresca-Martinez (804) 775-3320.

Dated: April 24, 2001.
Joseph C. Montgomery,
Director, NEPA Compliance Division, Office of Federal Activities.

[FR Doc. 01-10554 Filed 4-26-01; 8:45 am]

BILLING CODE 6560-50-P